DEPARTMENT OF TRANSPORTATION

Federal Aviation Administration

Fiftieth Meeting, RTCA Special Committee 135: Environmental Conditions and Test Procedures for Airborne Equipment

AGENCY: Federal Aviation Administration (FAA), DOT.

ACTION: Notice of RTCA Special Committee 135 meeting.

SUMMARY: The FAA is issuing this notice to advise the public of a meeting of RTCA Special Committee 135: Environmental Conditions and Test Procedures for Airborne Equipment.

DATES: The meeting will be held September 25-27, 2007 starting at 9 a.m.

ADDRESSES: The meeting will be held at RTCA, 1828 L Street, NW., Suite 805, Colson Board Room, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 135 meeting. The agenda will include:

• September 25-27:

• Opening Session (Welcome, Chairman's Opening Remarks, Introductions).

• Approval of Summary from the Forty-Ninth Meeting, RTCA Paper No. 196-SC135-662.

• Review Working Group Activities.

○ Section 16, Power Input.

○ Section 20, Radio Frequency Susceptibility (Radiated and Conducted).

○ Section 21, Emission of Radio Frequency Energy.

• Final Review/Approval—Revised DO-160E.

• Review Schedule to Release DO-1620F.

• Closing Plenary Session (New/Unfinished Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 21, 2007.
Francisco Estrada C.,
RTCA Advisory Committee.

[FR Doc. 07-4247 Filed 8-29-07; 8:45 am]

BILLING CODE 4910-13-M